DEPARTMENT OF COMMERCE

National Oceanic and Atmospheric Administration

[RTID 0648-XC424]

Endangered and Threatened Species; Take of Anadromous Fish

AGENCY: National Marine Fisheries Service (NMFS), National Oceanic and Atmospheric Administration (NOAA), Commerce.

ACTION: Notice; determination on hatchery and genetic management plans and availability of the associated Findings of No Significant Impact (FONSIs).

SUMMARY: Notice is hereby given that NMFS has made determinations on 12 resource management plans in the form of joint tribal and state Hatchery and Genetic Management Plans (HGMPs) that were submitted in three bundles (Lake Washington HGMPs, Hood Canal HGMPs, and Hood River HGMPs) and four state HGMPs (Mid-Columbia HGMPs). NMFS also announces its issuance of Final Environmental Assessments (FEAs) and Findings of No Significant Impact (FONSIs) for the 11 hatchery programs in Mid-Columbia River, Hood River, and Lake Washington.

FOR FURTHER INFORMATION CONTACT: Allyson Purcell, at phone number: (503) 736-4736, or via email: allyson.purcell@noaa.gov.

SUPPLEMENTARY INFORMATION: Before making its final determinations, NMFS solicited and took into account public comments for how the plans address the criteria in § 223.203(b)(5). The determinations announced in this notice consist of NMFS' findings as to whether the plans submitted to NMFS meet the regulatory criteria.

Species Covered in This Notice

• Lower Columbia River Chinook Salmon (Oncorhynchus tshawytscha): threatened, naturally and artificially propagated

• Middle Columbia River Steelhead (O. mykiss): threatened, naturally and artificially propagated

• Lower Columbia River Steelhead (O. mykiss): threatened, naturally and artificially propagated

• Lower Columbia River Coho Salmon (O. kisutch): threatened, naturally and artificially propagated

• Columbia River Chum Salmon (O. keta): threatened, naturally and artificially propagated

• Puget Sound Chinook Salmon (O. tshawytscha): threatened, naturally and artificially propagated

• Puget Sound Steelhead (O. mykiss): threatened, naturally propagated

• Hood Canal Summer Chum Salmon (O. keta): threatened, naturally propagated.

Discussion of the Biological Analysis Underlying the Determinations

Mid-Columbia HGMPs

The United States Fish and Wildlife Service (USFWS) and the Washington Department of Fish and Wildlife (WDFW) submitted the Touchet River Endemic Summer Steelhead HGMP. The Oregon Department of Fish and Wildlife (ODFW) submitted the Umatilla River Summer Steelhead HGMP, the Round Butte Hatchery Spring Chinook Salmon HGMP, and the Round Butte Hatchery Summer Steelhead HGMP. The Umatilla Hatchery program is funded by the Bonneville Power Administration (BPA), as well as a small proportion of the Round Butte Hatchery programs, with the remainder of these programs funded by Portland General Electric (PGE).

Touchet River: The Touchet Endemic Steelhead Program is intended to conserve ESA-listed summer steelhead in the Touchet River, Washington, while also providing harvest opportunities and mitigating some of the effects of the development and operation of the Federal Columbia River Power System (FCRPS) in the Snake River Basin on fish and wildlife under the Lower Snake River Compensation Plan.

Umatilla River: The Umatilla River Steelhead Program is intended to conserve ESA-listed summer steelhead in the Umatilla River, Oregon, while also providing harvest opportunities. The BPA funds the program to mitigate for the effects of the development and operation of the FCRPS on fish and wildlife in the Columbia River and its tributaries under the Pacific Northwest Electric Power Planning and Conservation Act of 1980 (Northwest Power Act; 16 U.S.C. 839 et seq.) in a manner consistent with the Northwest Power and Conservation Council's Columbia River Basin Fish and Wildlife Program. The BPA also funds the program to fulfill commitments to the Confederated Tribes of the Umatilla Indian Reservation (CTUIR) related to proposed projects that are identified for funding in the 2008 Columbia River Basin Fish Accords Memorandum of Agreement among the CTUIR, the CTWSRO, the Confederated Tribes and Bands of the Yakama Nation, the Columbia River Inter-Tribal Fish Commission, BPA, the U.S. Army Corps of Engineers, and U.S. Bureau of Reclamation (Columbia Basin Fish Accords), as extended in 2018 (Fish Accord Extension).

Deschutes River: The Round Butte Spring Chinook Salmon and the Round Butte Summer Steelhead Programs are funded by PGE and CTWSRO under terms of the Federal Energy Regulatory Commission (FERC) license for the Pelton Round Butte Project on the Deschutes River in Oregon. Under the FERC license, PGE and the CTWSRO need to restore native fish passage and improve fish habitat upstream of Round Butte Dam, and support the reintroductions of steelhead and Chinook Salmon above Round Butte Dam. Both programs also provide fish to mitigate for lost fishing opportunities downstream of the Pelton Round Butte Project.

Lake Washington HGMPs

Issaquah Hatchery: The purpose of the chinook and coho salmon programs at Issaquah hatchery is to produce salmon for sustainable fisheries (including those under the jurisdiction of the Magnuson-Stevens Act) and to facilitate the exercise of Treaty Indian fishing right entitlements (U.S. v Washington). The programs also provide educational opportunities for the citizens of the area through its Watershed Interpretive Center. Further, the coho program supplies salmon eggs to schools and 26 cooperative educational centers throughout the region.

University of Washington Aquatic Research Facility (UWARF) Fall Chinook Salmon: The purpose of the coho and Chinook salmon programs at UWARF are to support research programs (e.g., University of Washington faculty, research scientists, graduate students; MIT; WDFW; and other affiliated research organizations such as NOAA Fisheries and USGS-Western Fisheries Research Center) and to support educational activities for undergraduate and graduate students within the University of Washington, MIT members, other Tribes, and the general public. The intent of the research program is to reduce genetic risk to natural populations and to maintain a gene pool that is separated from all natural populations.

Hood River HGMPs

The CTWSRO and ODFW have submitted HGMPs for two programs in the Hood River, Oregon (spring Chinook salmon and winter steelhead). The programs are funded by the BPA.

The goal of the Hood River spring Chinook salmon program is to re-establish and maintain a naturally sustaining spring Chinook salmon population in the Hood River, with sustainable and consistent in-basin tribal and sport harvest opportunities. The goals of the Hood River winter steelhead program are (1) to provide in-basin harvest opportunity for sport and tribal anglers, and (2) to increase the number of natural-origin spawners while maintaining the long-term fitness of the natural population and minimizing ecological and genetic impacts on other populations in the Hood River. The BPA funds the programs to mitigate for the effects of the development and operation of the FCRPS on fish and wildlife in the Columbia River and its tributaries under the Pacific Northwest Electric Power Planning and Conservation Act of 1980 (Northwest Power Act; 16 U.S.C. 839 et seq.) in a manner consistent with the Northwest Power and Conservation Council's Columbia River Basin Fish and Wildlife Program. The BPA also funds the program to fulfill commitments to the CTWSRO related to proposed projects that are identified for funding in the 2008 Columbia River Basin Fish Accords Memorandum of Agreement among the CTUIR, the CTWSRO, the Confederated Tribes and Bands of the Yakama Nation, the Columbia River Inter-Tribal Fish Commission, BPA, the U.S. Army Corps of Engineers, and U.S. Bureau of Reclamation (Columbia Basin Fish Accords), as extended in 2018 (Fish Accord Extension).

Hood Canal HGMPs

The Port Gamble S'Klallam Tribe, the Skokomish Tribe, and the WDFW operate hatchery programs for sustainable fisheries (including those under the jurisdiction of the Magnuson-Stevens Act) and to facilitate exercise of Treaty Indian fishing right entitlements (U.S. v Washington). The operators requested changes to three HGMPs (Enetai fall chum, Hoodsport fall chum, Port Gamble coho) to provide additional forage to southern resident killer whales; a species listed as endangered under the ESA that relies on adult salmon as a food resource. The operators of the Hood Canal steelhead supplementation program propose to investigate genetic effects of natural-origin steelhead dispersal throughout the Hood Canal Basin. The operators of the Hoodsport fall Chinook salmon program also propose to investigate the effects of release timing on survival of adult fall Chinook salmon; a non-ESA-listed stock.

Discussion of Determinations

All of the HGMPs submitted to NMFS are consistent with the recovery plans for each of the ESA-listed species and are designed to aid in conserving their populations across the ESU and/or DPS range. NMFS, through its evaluation, has determined each of the programs are designed and operated to ensure that the impacts on ESA-listed natural-origin Chinook salmon, coho salmon, chum salmon, and steelhead populations will not appreciably reduce the survival and recovery of listed species. The programs use adaptive management procedures and the best available science to reduce adverse genetic effects and lessen competition and predation impacts typically associated with salmon and steelhead hatchery programs. Monitoring and evaluation will be implemented to assess the performance of each program in meeting population conservation or harvest augmentation objectives, and their effects on ESA-listed natural-origin Chinook salmon, coho salmon, chum salmon, and steelhead. The information gained through monitoring and evaluation will be used to assess whether the impacts of the programs on listed fish remain consistent with NMFS' determinations.

Review of monitoring and evaluation results by NMFS and the co-managers will occur annually to evaluate whether assumptions regarding the hatchery programs and their effects and analysis remain valid and whether the objectives are being accomplished. The HGMPs include provisions for annual reports that will assess compliance with performance standards established through the HGMPs. Reporting and inclusion of new information derived from HGMPs' research, monitoring, and evaluation activities assures that performance standards will be achieved in future seasons.

Summary of Comments Received

Mid-Columbia and Hood River HGMPs

NMFS published a notice of availability for public review and comment on four Mid-Columbia HGMPs and the proposed evaluation and pending determination (PEPD) for the two Hood River programs on July 14, 2020 (85 FR 42361), as required under Limit 5 and Limit 6 of the ESA section 4(d) Rule, respectively. The PEPD and HGMPs were available for public review and comment for 30 days.

NMFS published a notice of availability for public review and comment on the Draft Environmental Assessment (DEA) on July 14, 2020 (85 FR 42361), in accordance with National Environmental Policy Act of 1969 (NEPA), as amended (42 U.S.C. 4321 et seq.). The DEA was available for public review and comment for 30 days.

No comments were received on the PEPD, HGMPs, or the DEA.

Lake Washington HGMPs

NMFS published a notice of its PEPD on the five hatchery programs for public review and comment on August 27, 2021 (86 FR 48125, August 27, 2021), as required under Limit 6 of the ESA section 4(d) Rule. The PEPD was available for public review and comment for 30 days. No comments were received on the PEPD.

NMFS published a notice of availability for public review and comment on the DEA on August 27, 2021 (85 FR 48125, August 27, 2021), in accordance with NEPA, as amended (42 U.S.C. 4321 et seq.). The DEA was available for public review and comment for 30 days. NMFS received four comments on the DEA; though none of the comments had specific information or supporting documentation to warrant a change in the proposed action or the analysis contained in the DEA.

Hood Canal HGMPs

NMFS published a notice of its PEPD on five hatchery programs for public review and comment on November 10, 2021 (86 FR 62517), as required under Limit 6 of the ESA section 4(d) Rule. The PEPD was available for public review and comment for 30 days. No comments were received on the PEPD.

Authority: 16 U.S.C. 1531-1543; 16 U.S.C. 1361 et seq.; 16 U.S.C. 5503(d).

Dated: September 29, 2022.
Angela Somma,
Chief, Endangered Species Division, Office of Protected Resources, National Marine Fisheries Service.

[FR Doc. 2022-21482 Filed 10-3-22; 8:45 am]

BILLING CODE 3510-22-P